UNITED STATES INSTITUTE OF PEACE

Announcement of the Fall 2006 Unsolicited Initiative Effective October 1, 2006

AGENCY: United States Institute of Peace.

ACTION: Notice.

SUMMARY: The Agency announces a change to the Unsolicited Grant Program. The Unsolicited Initiative will be open on the basis of a single application deadline per year, starting October 1, 2006. The Unsolicited Initiative offers support for research, education and training, and the dissemination of information on international peace and conflict resolution. The Unsolicited Initiative competition is open to any project that falls within the Institute's broad mandate of international conflict resolution.

Deadline: October 1, 2006. Application material available on request and at http://www.usip.org/grants.

DATES: Receipt of Application: October 1, 2006. Notification Date: March 31, 2007.

ADDRESSES: For Application Package: United States Institute of Peace, Grant Program, 1200 17th Street, NW., Suite 200, Washington, DC 20036-3011. (202) 429-3842 (phone). (202) 833-1018 (fax). (202) 457-1719 (TTY). E-mail: grants@usip.org.

FOR FURTHER INFORMATION CONTACT: The Grant Program, Unsolicited Grants. Phone (202) 429-3842. E-mail: grants@usip.org.

Dated: June 1, 2006.
Michael Graham,
Vice President for Administration.

[FR Doc. 06-5130 Filed 6-5-06; 8:45 am]

BILLING CODE 6820-AR-M